DEPARTMENT OF TRANSPORTATION

Federal Highway Administration

Federal Railroad Administration

Rescission of Notice of Intent

SUMMARY: This notice rescinds the previous notice of intent issued on April 2, 2001 to prepare an environmental impact statement for a proposed rail corridor improvement project on the BNSF Railway main line between the City of Kelso and Martin's Bluff (south of Kalama, Washington).

FOR FURTHER INFORMATION CONTACT: Dean Moberg, Area Engineer, Federal Highway Administration, Evergreen Plaza Building, 711 South Capitol Way, Suite 501, Olympia, Washington 98501, Telephone: (360) 534-9344; David Valenstein, Federal Railroad Administration, 1200 New Jersey Ave., SE., MS-20, Washington, DC 20590, Telephone: (202) 493-6368; Scott Witt, Washington State Department of Transportation, 310 Maple Park Ave., Southeast, Olympia, Washington 98504, Telephone: (360) 705-7938.

SUPPLEMENTARY INFORMATION: On October 22, 1992, the U.S. Department of Transportation designated the existing rail corridor from Eugene, Oregon through Portland, Oregon and Seattle, Washington to Vancouver, British Columbia, Canada as a high-speed rail corridor pursuant to section 1010 of the Intermodal Surface Transportation Efficiency Act of 1991 (ISTEA). As part of phase one of the long-term plan to develop high-speed intercity passenger service on the corridor, the Washington State Department of Transportation (WSDOT) proposed to improve the Burlington Northern Santa Fe (now BNSF) mainline between the City of Kelso and Martin's Bluff (south of Kalama, Washington). FHWA and FRA published the notice of intent to prepare an environmental impact statement for the Kelso-Martin's Bluff Rail Project in the Federal Register on April 2, 2001. When anticipated federal funding for the project did not become available, the 2007 Washington State Legislature (Legislature) instructed the WSDOT to reduce the scope of the project to match state funding amounts. In 2008, the Legislature moved state project funds to the 2013-2017 biennia. As a result of these legislative actions, WSDOT is no longer proposing improvement to this rail corridor and FHWA and FRA are rescinding the notice of intent to prepare an environmental impact statement.

(Catalog of Federal Domestic Assistance Program Number 20.205, Highway Research, Planning and Construction. The regulations implementing Executive Order 12372 regarding intergovernmental consultation of federal programs and activities apply to this program)

Issued on: May 26, 2008.
Mark E. Yachmetz,
Associate Administrator for Railroad Development, Federal Railroad Administration.
Dean Moberg,
Area Engineer, FHWA.

[FR Doc. E9-17144 Filed 7-17-09; 8:45 am]

BILLING CODE 4910-RY-P